DEPARTMENT OF STATE

[Public Notice 7421]

Bureau of Educational and Cultural Affairs (ECA) Request for Grant Proposals: “American Film Showcase—Contemporary Voices in Documentary and Fiction Film”

Announcement Type: New Cooperative Agreement.

Funding Opportunity Number: ECA/PE/C/CU-11-46.

Catalog of Federal Domestic Assistance Number: 19.415.

Key Dates: September 1, 2011 to January 31, 2013.

Application Deadline: May 25, 2011.

Executive Summary: The Cultural Programs Division of the Office of Citizen Exchanges in the Bureau of Educational and Cultural Affairs (ECA) announces an open competition for a cooperative agreement to administer the “American Film Showcase—Contemporary Voices in Documentary and Fiction Film.” Through this program, ECA seeks to bring award-winning independent American documentaries and narrative films to audiences around the world to offer contemporary new insights into American life and culture and issues affecting democratic societies. The films and their filmmakers will be showcased at international venues, including U.S. Embassy-organized events and/or U.S. Embassy-supported international documentary and feature film festivals. This program will provide for travel by documentary and feature filmmakers and film experts in conjunction with public presentation of the films overseas. In addition to presentations, American filmmakers and film experts will be expected to conduct or participate in master classes, workshops, lectures and other outreach activities designed for a variety of audiences, with a focus on younger and underserved audiences. The classes are expected to include filmmaking workshops and training in digital technology, emergent media, and creative use of social media. The Showcase also will provide for follow-up programming that could include return visits overseas by American filmmakers or visits by young foreign filmmakers to the United States.

Through this solicitation, ECA seeks an organization to identify and select a collection of contemporary American documentary and narrative films that offer a broad overview of the best in current American independent filmmaking.

The films should demonstrate high artistic quality, illustrate diverse viewpoints, address a variety of social issues, and reflect the creativity inherent in an open, democratic society.

Documentaries are the priority focus of the American Film Showcase. They should address important and compelling themes and represent more than half of the films in the Showcase, with the remainder being narrative/fiction films. The Showcase also should include a small collection of animated shorts.

U.S. public and non-profit organizations meeting the provisions described in Internal Revenue code section 26 U.S.C. 501(c)(3) may submit proposals for the American Film Showcase.

For this competition, all applicants must demonstrate sufficient experience successfully exhibiting, distributing, or otherwise promoting American documentaries and narrative films. They also should demonstrate extensive knowledge of independent filmmaking—especially the documentary field—both in the U.S. and overseas.

Proposals from organizations with significant international experience and also educational programming experience will be more competitive.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

The Bureau seeks proposals that will showcase and promote contemporary American independent documentaries and narrative films and their filmmakers at a variety of international venues, including U.S. Embassy-organized events and U.S. Embassy-supported documentary film festivals, as well as at universities, museums, binational centers and elsewhere. These events will help engage audiences overseas that have access to few if any American independent documentaries and narrative films. The Showcase will provide opportunities for international audiences to become exposed to American viewpoints on socially relevant issues as presented in these films; gain an understanding of the role of filmmaking as a catalyst for dialogue and for exploring solutions to contemporary problems; and allow American filmmakers to learn about life and culture in the foreign host countries.

Documentaries are the priority focus of the Showcase because they can inspire critical discussion of difficult topics, help foster mutual understanding and demonstrate the importance of free speech in bringing about public discourse to effect change. The documentaries should address a variety of compelling themes and reflect contemporary American society as seen by independent documentary filmmakers. These themes should include—but not be limited to—human rights, ethnic diversity, immigration, democratic processes, women and families, civil society, the environment, science and technology, education and other subjects reflecting contemporary life.

Documentaries should represent more than half of the films in the Showcase, with the remainder being narrative/fiction films. Selected narrative films should not be extraneous to the program but should elaborate in some way on the themes explored in the documentaries. ECA is looking for a creative and imaginative proposal to illustrate this connection. The American Film Showcase should include at least 15 and no more than 20 documentaries and narrative films, with documentaries comprising more than 50% of the total number. Applicant organizations should specify what that number should be and explain the reason for the documentary/narrative film ratio. In addition, the applicant also will select a small collection of animated shorts (approx. five) that demonstrate the latest in American animation techniques and increase programming interest, especially for younger audiences.

The applicant will be responsible for identifying and assembling a collection of American documentaries on diverse social themes, whose filmmakers will be available for overseas travel and programming by U.S. Embassies in connection with the presentation of their documentaries at Embassy-sponsored events or local film festivals, as well as other programming possibilities. The applicant also will be responsible for identifying and assembling a selection of narrative/fiction films that elaborate on the themes explored in the documentaries. Fiction filmmakers also must be available for overseas travel and presentation of their films at U.S. Embassy-sponsored events, local film festivals, and other program venues. In addition to presentations, all American Showcase filmmakers and film experts will be expected to conduct or participate in master classes, lectures and workshops on a variety of subjects, including filmmaking, story-telling, and cinematography; marketing, distribution and funding; animation techniques and computer animation; digital technology, cell-phone and YouTube filmmaking; other forms of emergent media, as well as creative use of social networking. They also are expected to be available for interviews, radio and television appearances, and other outreach activities. Audiences are expected to include film professionals, film students and festival goers; journalism students and other university students; younger students with little background in film; environmental activists and civil society representatives; NGO's seeking to help the disabled; as well as general audiences.

The Showcase also will provide for follow-up programming that could include the return of filmmakers or film experts to countries already visited for more in-depth programs. Alternatively, several young foreign filmmakers encountered during the Showcase tour might be invited to present their films at one or more festivals in the United States. The award recipient will develop follow-up programs in consultation with ECA and U.S. Embassies.

Applicants should submit proposals that show how they will identify and select the collection outlined here and how they will assist ECA in programming the films and their filmmakers in approximately 20 to 25 countries overseas.

Guidelines

The successful applicant must fully demonstrate a capacity to achieve the following:

(1) Identify the film professionals, subject matter specialists, and other experts who will be members of the panel(s) selecting the documentaries and narrative films. Provide credentials to illustrate the film and international expertise of the review panelists.

(2) Identify the specific selection criteria the review panel(s) will use to select the documentary and narrative films and participating filmmakers. The panel(s) may include an ECA representative as an observer.

Since the films and documentaries will be presented abroad as part of ECA's public diplomacy outreach, they should be balanced, represent the diversity of American political, social and cultural life, and take political and cultural sensitivities into consideration. ECA will review and approve nominated documentaries and narrative films and provide final approval for the selection panel(s) recommendations.

(3) Identify, select, and obtain approximately 15-20 American documentaries and narrative films appropriate for overseas presentation. Documentaries should comprise more than 50% of the collection and should reflect compelling themes and issues such as human rights, ethnic diversity, women's issues, and the environment as well as categories such as history and social documentaries, ethnographic films, biographies, and the arts. The narrative films should relate to the themes presented in the documentaries. The collection should include documentary and narrative films appropriate for entry into international film festivals if requested by U.S. embassies. It also should include a mix of feature length and short films to allow for flexible programming at various venues.

(4) Identify, select, and obtain at least five or more animated shorts that demonstrate the latest in American animation techniques, enhance program flexibility, and increase programming interest, especially for younger audiences.

(5) Identify the filmmakers, film professionals, and other film experts who will travel overseas to present the films and arrange their travel, assisting with passport, visa, immunizations, and other pre-travel preparations. Filmmakers must be U.S. citizens who are at least 21 years old; demonstrate the highest artistic ability; be conversant with broader aspects of contemporary American society and culture; be conversant with the other films in the collection, as well as their own; and be adaptable to unescorted, rigorous touring through regions where travel and performance situations may be difficult.

(6) Ensure documentaries and narrative features are available in appropriate formats for various kinds of screening venues and that sufficient copies of the entire collection are available for multiple bookings in various geographic areas. The applicant is responsible for producing Showcase film packages in appropriate formats with sufficient copies for multiple exhibitions overseas.

(7) Obtain all necessary and appropriate rights clearances for the documentaries, narrative features and animation shorts included in the Showcase collection to ensure copyright protection and permit flexibility in programming. This includes obtaining translation rights.

(8) Obtain transcripts and dialogue lists for all documentaries and narrative films to allow for subtitling when needed. The applicant's budget should include funds to cover some subtitling, with ECA or individual embassies paying the balance.

(9) Ensure all Showcase documentaries and narrative films meet film festival criteria, in the event they are to be submitted for presentation at a U.S. Embassy-supported festival. Assist with festival entry forms.

(10) Work with ECA and U.S. Embassy Public Affairs Sections to develop program models for Embassy-sponsored or Embassy-organized film events that are appropriate for many different audiences and venues.

(11) Working in coordination with ECA, ensure Embassy Public Affairs Sections concur with suitability of selected Showcase films for their programming.

(12) Develop educational, programming and promotional materials to support the Showcase collection, including a website, study guides, posters, press kits, and media packets.

(13) Develop a comprehensive media and public relations strategy that includes outreach to international and U.S. media. The successful applicant will incorporate social media and innovative technologies into their outreach strategy. All final public relations strategies will be developed in consultation with and approved by ECA.

(14) Arrange and provide orientation sessions and pre-travel briefings for filmmakers and film experts, produce press materials and provide publicity and other support while the filmmakers are overseas.

(15) Evaluate program activities.

(16) Report on program activities to ECA immediately following each overseas visit and provide a summary report using a format that ECA will provide.

(17) Assist ECA and U.S. embassies with possible follow-on program development and implementation.

Proposals should reflect a practical understanding of global issues and demonstrate sensitivity to cultural, political, economic, and social differences in regions where the documentaries and narrative films will be shown and the filmmakers and experts programmed. Special attention should be given to describing the applicant organization's experience with documentary and narrative film, with planning and implementing logistical scenarios overseas, and with international and educational programming of the type described here. Please provide details of all such past experience. Applicants also should outline their project team's capacity for doing projects of this nature and provide a detailed sample program to illustrate planning capacity and ability to achieve program objectives. Applicants must identify all U.S. and foreign partner organizations and/or venues with whom they are proposing to collaborate, and describe previous cooperative projects in the section on “Institutional Capacity.” For this competition, applicants must include in their proposal supporting materials that demonstrate a minimum of four years experience in conducting international exchange programs. Proposals also must include references with name and contact information for other assistance awards the applicant may have received so the Bureau may contact them directly and include examples of successful projects.

ECA intends to award one cooperative agreement to a qualified institution or organization to administer the American Film Showcase program globally. Activities funded through this cooperative agreement support the organization and implementation of programs in approximately 20 to 25 countries overseas.

Activities must include, but are not limited to:

(1) Selection of contemporary independent documentaries and narrative films with associated filmmakers.

(2) Production of film packages in appropriate formats with appropriate rights clearances for multiple exhibitions overseas.

(3) Development of promotional and corollary support material, including educational and media packets.

(4) Shipping overseas.

(5) Travel overseas by filmmakers and other experts.

(6) Advance program planning.

(7) Programming educational, media, and other outreach activities in consultation with ECA and U.S. embassies.

(8) Assisting filmmakers with passport, visa, immunizations, and other pre-travel preparations.

(9) Arranging and providing orientation sessions and pre-travel briefings, producing press materials, and providing support for publicity while the filmmakers are overseas.

(10) Working with ECA and directly with the media to publicize the American Film Showcase program.

(11) Evaluating program activities.

(12) Reporting on program activities to ECA.

(13) Providing suggestions for—and assistance with—follow-on program development, including the option of bringing foreign filmmakers to the United States.

Applicants must have experience in aspects of documentary and narrative filmmaking and in planning and implementation of programs—with particular emphasis on documentary programs, and on overseas and educational programs—and should address these elements in the proposal. Proposals that include strong programmatic and outreach elements targeted to young audiences will be more competitive. The grantee must be highly responsive and able to work in close consultation with ECA and the Public Affairs Sections of the participating U.S. embassies.

Successful applicants will include with their proposal specific criteria for the selection of American documentaries and filmmakers and the selection of narrative films and filmmakers.

ECA Responsibilities: This is a cooperative agreement, and ECA will be substantially involved in program activities above and beyond routine monitoring. ECA activities and responsibilities for this program are as follows:

(1) The final selection of films and filmmakers.

(2) Determination of the countries to which the films and filmmakers will travel. Priority countries will be those in all world regions of greatest importance to the Department of State's public diplomacy mission to build mutual understanding and support U.S. foreign policy objectives.

(3) Facilitative assistance with the overseas program arrangements, as needed.

(4) Final approval of all program arrangements.

(5) Approval of media and public relations strategies and arrangements for Showcase events.

II. Award Information

Type of Award: Cooperative Agreement. ECA's level of involvement in this program is listed under number I above.

Fiscal Year Funds: FY 2011.

Approximate Total Funding: $700,000.

Approximate Number of Awards: One.

Approximate Average Award: $700,000.

Anticipated Award Date: Pending availability of funds, September 1, 2011.

Anticipated Project Completion Date: January 31, 2013.

Additional Information: Pending successful implementation of this program and the availability of funds in subsequent fiscal years, it is ECA's intent to renew this cooperative agreement for two additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a.) Bureau grant guidelines require that organizations with less than four years experience in conducting international exchanges be limited to $60,000 in Bureau funding. ECA anticipates making one award, in an amount up to $700,000 to support program and administrative costs required to implement this exchange program. Therefore, organizations with less than four years experience in conducting international exchanges are ineligible to apply under this competition.

(b.) Technical Eligibility: All proposals must comply with the following: (1) Full adherence to the guidelines stated herein and in the Proposal Submission Instructions (PSI); (2) proposal submission deadline date; (3) non-profit organization status, and; (4) for purposes of this competition, a demonstrated track record in independent documentary and narrative film programming and at least four years experience in international exchanges, or your proposal will be declared technically ineligible and given no further consideration in the review process. Eligible applicants may submit only ONE proposal (TOTAL) in response to this RFGP. If multiple proposals are received, all submissions will be declared technically ineligible and will be given no further consideration in the review process. Please note: Applicant organizations are defined by their legal name, and EIN number as stated on their completed SF-424 and additional supporting documentation outlined in the PSI document.

IV. Application and Submission Information

Note: Please read the complete announcement before sending inquiries or submitting proposals. Once the RFGP deadline has passed, Bureau staff may not discuss this competition with applicants until the proposal review process has been completed.

IV.1. Contact Information To Request an Application Package

Please contact Susan L. Cohen in the Cultural Programs Division, Office of Citizen Exchanges, ECA/PE/C/CU, SA-5, Third Floor, U.S. Department of State, 2200 C Street, NW., Washington, DC 20037, tel: 202-632-6424, fax: 202-632-9355, e-mail CohenSL@state.gov to request a Solicitation Package. Please refer to the Funding Opportunity Number ECA/PE/C/CU-11-46 located at the top of this announcement when making your request. Alternatively, an electronic application package may be obtained from grants.gov. Please see section IV.3f for further information.

The Solicitation Package contains the Proposal Submission Instruction (PSI) document which consists of required application forms, and standard guidelines for proposal preparation.

Please specify Program Officer Susan L. Cohen, Cultural Programs Division, ECA/PE/C/CU, and refer to the Funding Opportunity Number ECA/PE/C/CU-11-46 located at the top of this announcement on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. All federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov website as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence To All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq, including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from:

Office of Designation, Private Sector Programs Division, U.S. Department of State, ECA/EC/D/PS, SA-5, 5th Floor, 2200 C Street, NW., Washington, DC 20037.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ``Support for Diversity'' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. The award may not exceed $700,000. There must be a summary budget as well as breakdowns reflecting both administrative and program budgets. Applicants may provide separate sub-budgets for each program component, phase, location, or activity to provide clarification.

IV.3e.2. Allowable costs for the program include the following:

(1) Program Expenses, including but not limited to: Costs involved in the identification and selection of an American documentary and narrative film collection, including organization of selection panel/s; costs of producing multiple copies of the documentary and film collection; domestic and international travel for the selected filmmakers (per The Fly America Act) to approximately 20 to 25 countries overseas for an average of one-to-two weeks of programming; visas and immunizations; airport taxes and country entrance fees; honoraria for the filmmakers; educational materials and presentation items; excess and overweight baggage fees for educational material; trip itinerary booklets; press kits and promotional materials; follow-on activities; monitoring and evaluation; and international travel for program implementation and/or evaluation purposes. The following guidelines may be helpful in developing a proposed budget:

A. Travel Costs. International and domestic airfares. (per The Fly America Act), transit costs, ground transportation, and visas for American Film Showcase participants to travel to overseas program destinations.

B. Per Diem: For any U.S. portion of the travel, organizations should use the published Federal per diem rates. The Public Affairs Sections of the participating U.S. embassies and consulates are responsible for per diem abroad. Domestic per diem rates may be accessed at: http://www.gsa.gov/Portal/gsa/ep/contentView.do?contentId=17943&contentType=GSA_BASIC%20.

C. Sub-grantees and Consultants. Sub-grantee organizations may be used, in which case the written agreement between the prospective grantee and sub-grantee should be included in the proposal. Sub-grants must be itemized in the budget under General Program Expenses. Consultants may be used to provide specialized expertise. Daily honoraria cannot exceed $250 per day, and applicants are strongly encouraged to use organizational resources, and to cost share heavily in this area.

D. Health Insurance. Each American Film Showcase participant traveling abroad will be covered under the terms of the ECA-sponsored Accident and Sickness Program for Exchanges (ASPE) insurance policy. Upon notification from the grant recipient, ECA will enroll participants in the plan for the period of the exchange. Details about the insurance program can be provided by the ECA contact for this solicitation. Insurance premiums are paid by ECA and should not be included in the grant proposal budget. However, the cost for international travel insurance for staff travel may be included in the proposal budget.

E. Honoraria for American Film Showcase filmmakers abroad. Daily honorarium is $200 per day for each filmmaker or film expert, including rest and travel days.

F. Educational and Promotional Items. ECA funds for educational and promotional items should not exceed $200 per filmmaker or film expert per program.

G. Excess Baggage. For brochures, educational and other support material related to overseas programming.

H. Immunizations/Visas. For purposes of a proposed budget, line items for immunizations should be estimated at $400 per filmmaker, and visas/visa photos should be estimated at $600 per filmmaker or film expert.

I. Press Kits. Each relevant U.S. embassy should receive appropriate contents for press kits. Items may be sent electronically with the understanding that in some cases, embassies may not be able to access large files or attachments. This line item may include funds for shooting and duplicating publicity photos and duplicating documentary clips. Hard copy versions of press kits also must be available.

J. Staff Travel. Allowable costs include domestic staff travel for one staff member to attend recruitment/selection events in approximately two U.S. cities. International staff travel will be allowable, especially if associated with monitoring and evaluation and undertaken in consultation with ECA. Cost-sharing for staff travel is strongly encouraged.

2. Administrative Costs. Costs necessary for the effective administration of the program may include salaries for grantee organization employees, benefits, and other direct and indirect costs per detailed instructions in the Solicitation Package. While there is no rigid ratio of administrative to program costs, proposals in which the administrative costs do not exceed 25% of the total requested from ECA grant funds will be more competitive on cost effectiveness. Please refer to the Solicitation Package for complete budget guidelines and formatting instructions.

IV.3f. Application deadline and methods of submission:

Application Deadline Date: May 25, 2011.

Reference Number: ECA/PE/C/CU-11-46.

Methods of Submission: Applications may be submitted in one of two ways:

(1.) In hard-copy, via a nationally recognized overnight delivery service (i.e., Federal Express, UPS, Airborne Express, or U.S. Postal Service Express Overnight Mail, etc.), or

(2.) electronically through http://www.grants.gov.

Along with the Project Title, all applicants must enter the above Reference Number in Box 11 on the SF-424 contained in the mandatory Proposal Submission Instructions (PSI) of the solicitation document.

IV.3f.1.—Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM.”

The original and 14 copies of the application should be sent to:

Program Management Division, ECA-IIP/EX/PM, Ref.: ECA/PE/C/CU-11-046, SA-5, Floor 4, Department of State, 2200 C Street, NW., Washington, DC 20037.

(Include following language re: CD-ROM submission only if proposals will be forwarded to embassies. If post input is not necessary, delete language.)

Applicants submitting hard-copy applications must also submit the “Executive Summary” and “Proposal Narrative” sections of the proposal in text (.txt) or Microsoft Word format on CD-ROM. As appropriate, the Bureau will provide these files electronically to Public Affairs Section(s) at the U.S. embassy(ies) for its (their) review.

IV.3f.2.—Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the ``Get Started'' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support, Contact Center Phone: 800-518-4726, Business Hours: Monday-Friday, 7 a.m.-9 p.m. Eastern Time. E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site for definitions of various “application statuses” and the difference between a submission receipt and a submission validation.

Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the Program Idea: Proposals should exhibit originality, substance, precision, and relevance to the Bureau's mission.

2. Program Planning and Ability To Achieve Objectives: Detailed agenda and relevant work plan should demonstrate substantive undertakings and logistical capacity. Agenda and plan should adhere to the program overview and guidelines described above. Objectives should be reasonable, feasible, and flexible. Proposals should clearly demonstrate how the institution will meet the program's objectives and plan.

3. Multiplier Effect/Impact: Proposed programs should strengthen long-term mutual understanding, including maximum sharing of information and establishment of long-term institutional and individual linkages.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity: Proposed personnel and institutional resources should be adequate and appropriate to achieve the program or project's goals.

6. Institution's Record/Ability: Proposals should demonstrate an institutional record of successful exchange programs, including responsible fiscal management and full compliance with all reporting requirements for past Bureau awards (grants or cooperative agreements) as determined by Bureau Grants Staff. The Bureau will consider the past performance of prior recipients and the demonstrated potential of new applicants.

7. Follow-on Activities: Proposals should provide a plan for continued follow-on activity (without Bureau support), ensuring that Bureau funded programs are not isolated events. Please also provide suggestions for follow-on program development to be funded by this grant.

8. Project Evaluation: Proposals should include a plan to evaluate the activity's success, both as the activities unfold and at the end of the program. A draft survey questionnaire or other technique plus description of a methodology to use to link outcomes to original project objectives is recommended.

9. Cost-effectiveness and Cost-Sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b. Should any proposals include programming for Iranian audiences or include follow-on activities involving Iranian grantees, the following additional requirements would apply to this project:

A critical component of current U.S. government Iran policy is the support for indigenous Iranian voices. The State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. 2339A and 2339B; Executive Order 13224; and Homeland Security Presidential Directive 6. These licensing conditions mandate that the Department conduct a vetting of potential Iran grantees and sub-grantees for counter-terrorism purposes. To conduct this vetting the Department will collect information from grantees and sub-grantees regarding the identity and background of their key employees and Boards of Directors.

Note: To assure that planning for the inclusion of Iran complies with requirements, please contact Susan L. Cohen at (202) 632-6424 for additional information.

Should any proposals include programming involving the Palestinian Authority, West Bank, and Gaza, the following additional requirements would apply: All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Susan L. Cohen, ECA/PE/C/CU, 202-632-6424, cohensl@state.gov for additional information.

VI.2. Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following websites for additional information:

http://www.whitehouse.gov/omb/grants.

http://fa.statebuy.state.gov.

VI.3. Reporting Requirements: You must provide ECA with a hard copy original plus two copies of the following reports:

(1.) A final program and financial report no more than 90 days after the expiration of the award;

(2.) A concise, one-page final program report summarizing program outcomes no more than 90 days after the expiration of the award. This one-page report will will be transmitted to OMB, and be made available to the public via OMB's USAspending.gov website—as part of ECA's Federal Funding Accountability and Transparency Act (FFATA) reporting requirements.

(3.) A SF-PPR, “Performance Progress Report” Cover Sheet with all program reports.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Optional Program Data Requirements: Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, contact: Susan L. Cohen, U.S. Department of State, Cultural Programs Division, ECA/PE/C/CU, SA-5, Third Floor, ref: ECA/PE/C/CU-11-46, 2200 C Street, NW., Washington, DC 20037, tel: 202-632-6424, fax: 202-632-9355, CohenSL@state.gov/.

All correspondence with the Bureau concerning this RFGP should reference the above title and Ref. number ECA/PE/C/CU-11-46.

Please read the complete announcement before sending inquiries or submitting proposals. Once the RFGP deadline has passed, Bureau staff may not discuss this competition with applicants until the proposal review process has been completed.

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 15, 2011.
Ann Stock,
Assistant Secretary for Educational and Cultural Affairs, Department of State.

[FR Doc. 2011-9727 Filed 4-20-11; 8:45 am]

BILLING CODE 4710-05-P